DEPARTMENT OF ENERGY

Federal Energy Regulatory Commission

[Docket No. CP02-25-000]

Copiah County Storage Company; Notice of Intent To Prepare an Environmental Assessment for the Proposed Copiah Storage Project and Request for Comments on Environmental Issues

December 4, 2001.

The staff of the Federal Energy Regulatory Commission (FERC or Commission) will prepare an environmental assessment (EA) that will discuss the environmental impacts of the Copiah Storage Project involving construction and operation of facilities by Copiah County Storage Company (Copiah) in Copiah County, Mississippi.¹ Copiah proposes to construct a compressor station, a natural gas storage cavern, approximately 635 feet of 20-inch-diameter pipeline, and up to five freshwater withdrawal/brine injection well sites. This EA will be used by the Commission in its decision-making process to determine whether the project is in the public convenience and necessity.

¹ Copiah's application was filed with the Commissiion under section 7 of the Natural Gas Act and part 157 of the Commission's regulations.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” was attached to the project notice Copiah provided to affected landowners. This fact sheet addresses a number of typically asked questions, including the use of eminent domain and how to participate in the Commission's proceedings. It is available for viewing on the FERC Internet Web site (www.ferc.gov).

Summary of the Proposed Project

Copiah wants to provide a storage facility that would act as a reservoir for a supply of natural gas to the Mississippi regional area. The proposed project would meet load swings brought about by gas-fired electric generation and the peak winter heating load and growth of local distribution companies for rapid fuel delivery services to nearby pipeline systems. The storage facility would have an initial natural gas storage working capacity of approximately 3.3 billion cubic feet (Bcf) with 300,000 dekatherms per day (Dth/d) of deliverability capability and 150,000 Dth/d of injection capability. Specifically, Copiah seeks authority to construct and operate:

• A single 3.3 Bcf capacity gas storage cavern extending approximately 5,500 feet below the ground surface within an underground salt dome;

• 13,350 horsepower (hp) of gas engine-driven compression at the new Copiah Storage Project compressor station to provide compression for injection and withdrawal of natural gas from the gas storage cavern;

• Approximately 635 feet of 20-inch-diameter pipeline from the compressor station to the storage cavern wellhead; and

• Up to five well sites consisting of a freshwater withdrawal well and brine injection well at each site.

The location of the project facilities is shown in appendix 1.²

² The appendices referenced in this notice are not being printed in the Federal Register. Copies are available on the Commission's Web site at the “RIMS” link or from the Commission's Public Reference and Files Maintenance Branch, 888 First Street, NE., Washington, DC 20426, or call (202) 208-1371. For instructions on connecting to RIMS refer to the last page of this notice. Copies of the appendices were sent to all those receiving this notice in the mail.

Land Requirements for Construction

Approximately 730 acres have been identified by Copiah as the project area. However, only 59 acres would be disturbed by construction and 53 acres would be necessary for the operation of the proposed project.

The EA Process

The National Environmental Policy Act (NEPA) requires the Commission to take into account the environmental impacts that could result from an action whenever it considers the issuance of a Certificate of Public Convenience and Necessity. NEPA also requires us³ to discover and address concerns the public may have about proposals. We call this “scoping”. The main goal of the scoping process is to focus the analysis in the EA on the important environmental issues. By this Notice of Intent, the Commission requests public comments on the scope of the issues it will address in the EA. All comments received are considered during the preparation of the EA. State and local government representatives are encouraged to notify their constituents of this proposed action and encourage them to comment on their areas of concern.

³ “We”, “us”, and “our” refer to the environmental staff of the Office of Energy Projects (OEP).

The EA will discuss impacts that could occur as a result of the construction and operation of the proposed project under these general headings:

• Geology and soils

• Land use

• Water resources, fisheries, and wetlands

• Endangered and threatened species

• Vegetation and wildlife

• Air quality and noise

• Cultural resources

We will also evaluate possible alternatives to the proposed project or portions of the project, and make recommendations on how to lessen or avoid impacts on the various resource areas.

Our independent analysis of the issues will be in the EA. Depending on the comments received during the scoping process, the EA may be published and mailed to Federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section below.

Currently Identified Environmental Issues

We have already identified several issues that we think deserve attention based on a preliminary review of the proposed facilities and the environmental information provided by Copiah. This preliminary list of issues may be changed based on your comments and our analysis.

• The project would be located in a United States Environmental Protection Agency-designated sole-source aquifer area, the Southern Hills Regional Aquifer System.

• The project would require approximately 34 million barrels of non-potable freshwater for cavern solution leaching. The rate of withdrawal from each well would be approximately 600 to 1,000 gallons per minute (gpm). Brine resulting from cavern leaching would be disposed of by injection into disposal wells.

Public Participation

You can make a difference by providing us with your specific comments or concerns about the project. By becoming a commentor, your concerns will be addressed in the EA and considered by the Commission. You should focus on the potential environmental effects of the proposal, alternatives to the proposal (including alternative locations), and measures to avoid or lessen environmental impact. The more specific your comments, the more useful they will be. Please carefully follow these instructions to ensure that your comments are received in time and properly recorded:

• Send an original and two copies of your letter to: Secretary, Federal Energy Regulatory Commission, 888 First St., NE., Room 1A, Washington, DC 20426.

• Label one copy of the comments for the attention of Gas/Hydro.

• Reference Docket No. CP02-025-000.

• Submit your comments so that they will be received in Washington, DC on or before January 15, 2002.

Comments, protests, and interventions may be filed electronically via the Internet in lieu of paper. See 18 CFR 385.2001(a)(1)(iii) and the instructions on the Commission's Web site at http://www.ferc.gov under the “e-Filing” link and link to the User's Guide. Before you can file comments you will need to create an account which can be created by clicking on “Login to File” and then “New User Account.”

Everyone who responds to this notice or comments throughout the EA process will be retained on our mailing list. If you do not want to send comments at this time but still want to remain on our mailing list, please return the Information Request (appendix 3). If you do not return the Information Request, you will be taken off the mailing list.

Due to current events, we cannot guarantee that we will receive mail on a timely basis from the U.S. Postal Service, and we do not know how long this situation will continue. However, we continue to receive filings from private mail delivery services, including messenger services in a reliable manner. The Commission encourages electronic filing of any comments or interventions or protests to this proceeding. We will include all comments that we receive within a reasonable time frame in our environmental analysis of this project.

Becoming an Intervenor

In addition to involvement in the EA scoping process, you may want to become an official party to the proceeding known as an “intervenor”. Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's rules of practice and procedure (18 CFR 385.214) (see appendix 2).⁴ Only intervenors have the right to seek rehearing of the Commission's decision.

⁴ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Additional information about the proposed project is available from the Commission's Office of External Affairs at (202) 208-1088 or on the FERC Web site (www.ferc.gov) using the “RIMS” link to information in this docket number. Click on the “RIMS” link, select “Docket #” from the RIMS Menu, and follow the instructions. For assistance with access to RIMS, the RIMS helpline can be reached at (202) 208-2222.

Similarly, the “CIPS” link on the FERC Internet Web site provides access to the texts of formal documents issued by the Commission, such as orders, notices, and rulemakings. From the FERC Internet Web site, click on the “CIPS” link, select “Docket #” from the CIPS menu, and follow the instructions. For assistance with access to CIPS, the CIPS helpline can be reached at (202) 208-2474.

Linwood A. Watson, Jr.,
Acting Secretary.

[FR Doc. 01-30401 Filed 12-7-01; 8:45 am]

BILLING CODE 6717-01-P